DEPARTMENT OF AGRICULTURE

Establishment of the Urban Agriculture and Innovative Production Advisory Committee and Solicitation of Nominations for Membership on the Advisory Committee

AGENCY: Natural Resources Conservation Service, United States Department of Agriculture (USDA).

ACTION: Notice.

SUMMARY: The Secretary of USDA announces the establishment of the Urban Agriculture and Innovative Production Advisory Committee (Urban Ag Advisory Committee). The Committee will advise the Secretary on the development of policies and outreach relating to urban, indoor, and other emerging agricultural production practices; and other aspects of the implementation section of Subtitle A, Section 222 of the Reorganization Act of 1994. This notice also solicits nominations for membership on the Urban Ag Advisory Committee.

DATES: January 7, 2021.

ADDRESSES: We will consider nominations that are postmarked by March 8, 2021 to Ronald Harris, Designated Federal Officer, Director of Outreach and Partnerships, Natural Resources Conservation Service, Department of Agriculture, 1400 Independence Avenue SW, Room 6006-S, Washington, DC 20250; or send by email to: Ronald.Harris@usda.gov. Ronald Harris, as the Designated Federal Officer will acknowledge receipt of nominations.

FOR FURTHER INFORMATION CONTACT: Ronald Harris; telephone: (202) 720-6646; email: Ronald.Harris@usda.gov.

SUPPLEMENTARY INFORMATION

Urban Ag Advisory Committee Purpose

Section 12302 of the Agriculture Improvement Act of 2018 (Pub. L. 115-334, the 2018 Farm Bill) directs the Secretary of the USDA to establish an “Urban Agriculture and Innovative Production Advisory Committee” to advise the Secretary on the development of policies and outreach relating to urban, indoor, and other emerging agricultural production practices; and any other aspects of the implementation of section 222 of the Reorganization Act of 1994 (Pub. L. 103-354). The Urban Ag Advisory Committee will advise the Secretary of Agriculture on the development of policies and outreach relating to urban, indoor, and other emerging agricultural production practices; and will further develop recommendations.

In addition, the Urban Ag Advisory Committee will advise the Director of the Office of Urban Agriculture and Innovative Production on policies, initiatives, and outreach administered by that office. The Urban Ag Advisory Committee will evaluate and review ongoing research and extension activities relating to urban, indoor, and other innovative agricultural practices; identify new and existing barriers to successful urban, indoor, and other emerging agricultural production practices; and provide additional assistance and provide advice to the Director as appropriate.

Urban Ag Advisory Committee Membership

The Urban Ag Advisory Committee is expected to meet not less than 3 times each year, with meetings held at various locations across the United States. There will be 12 members appointed to the Urban Ag Advisory Committee. Of the members first appointed to this Urban Ag Advisory Committee, as determined by the Secretary:

• 4 of the members will be appointed for a term of 3 years;

• 4 of the members will be appointed for a term of 2 years; and

• 4 of the members will be appointed for a term of 1 year.

Future members will be appointed for a term of 3 years. An initial appointee of the Urban Ag Advisory Committee may serve an additional consecutive term if the member is reappointed by the Secretary.

The Urban Ag Advisory Committee will be composed of individuals representing a broad spectrum of the following representation:

○ 4 agricultural producers, of whom—

○ 2 are agricultural producers in an urban area or urban cluster; and

○ agricultural producers who use innovative technology;

• 2 representatives from an institution of higher education or extension program;

• 1 representative of a nonprofit organization, which may include a public health, environmental, or community organization;

• 1 representative of business and economic development, which may include a business development entity, a chamber of commerce, a city government, or a planning organization;

• 1 individual with supply chain experience, which may include a food aggregator, wholesale food distributor, food hub, or an individual who has direct-to-consumer market experience;

• 1 individual from a financing entity; and

• 2 individuals with related experience or expertise in urban, indoor, and other emerging agriculture production practices, as determined by the Secretary.

Nominees to the Urban Ag Advisory Committee will be evaluated on a number of criteria, including expertise or experience with urban, indoor, and other emerging agricultural practices.

Serving as an Urban Ag Advisory Committee member will not constitute employment by, or the holding of, an office of the United States for the purpose of any Federal law. Persons selected for membership on the Urban Ag Advisory Committee will not receive compensation from USDA for their service as Urban Ag Advisory Committee members, except that while away from home or regular place of business the member will be eligible for travel expenses paid by USDA, including per diem in lieu of subsistence, at the same rate as a person employed intermittently in the government service, under 5 U.S.C. 5703.

Equal opportunity practices, in line with the USDA policies, will be followed in all appointments to the Urban Ag Advisory Committee.

To ensure that the recommendations of the Urban Ag Advisory Committee have taken into account the needs of the diverse groups served by the Department, membership should include, to the extent practicable, individuals with demonstrated ability to represent minorities, women, and persons with disabilities.

Member Nominations

Any interested person or organization may nominate qualified individuals for membership. Interested candidates may nominate themselves. Individuals who wish to be considered for membership on the Urban Ag Advisory Committee must submit a nomination with information, including a background disclosure form (Form AD-755).

Nominations should be typed and include the following:

1. A brief summary, no more than two pages, explaining the nominee's qualifications to serve on the Urban Ag Advisory Committee and addressing the criteria described above.

2. A resume providing the nominee's background, experience, and educational qualifications.

3. A completed background disclosure form (Form AD-755) signed by the nominee https://www.ocio.usda.gov/sites/default/files/docs/2012/AD-755-Approved_Master-exp-3.31.22_508.pdf.

4. Any recent publications by the nominee relative to urban agriculture or innovations in urban agricultural production (if appropriate).

5. Letters of endorsement (optional).

Send typed nominations to Ronald Harris, Designated Federal Officer, Director of Outreach and Partnerships, Natural Resources Conservation Service, Department of Agriculture, 1400 Independence Avenue SW, Room 6006-S, Washington, DC 20250; telephone: (202) 720-6646; email: Ronald.Harris@usda.gov. Ronald Harris, the Designated Federal Officer, will acknowledge receipt of nominations.

Equal Opportunity Statement

To ensure that recommendations of the Urban Ag Advisory Committee take into account the needs of underserved and diverse communities served by the USDA, membership will include, to the extent practicable, individuals representing minorities, women, and persons with disabilities. USDA prohibits discrimination in all of its programs and activities on the basis of race, sex, color, national origin, gender, religion, age, sexual orientation, or disability. Additionally, discrimination on the basis of political beliefs and marital status or family status is also prohibited by statutes enforced by USDA (not all prohibited bases apply to all programs). Persons with disabilities who require alternate means for communication of program information (Braille, large print, audio tape, etc.) should contact USDA's Technology and Accessible Resources Give Employment Today Center at (202) 720-2600 (voice and TDD). USDA is an equal opportunity provider and employer.

Dated: December 28, 2020.
Cikena Reid,
Committee Management Officer, USDA.

[FR Doc. 2020-29077 Filed 1-6-21; 8:45 am]

BILLING CODE 3410-16-P